OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: C. Penn, Group Manager, Executive Resources Services Group, Center for Human Resources, Division for Human Capital Leadership and Merit System Accountability, 202-606-2246.

SUPPLEMENTARY INFORMATION: Appearing in the listing below are the individual authorities established under Schedules A, B, and C between February 1, 2008, and February 29, 2008. Future notices will be published on the fourth Tuesday of each month, or as soon as possible thereafter. A consolidated listing of all authorities as of June 30 is published each year.

Schedule A

No Schedule A appointments were approved for February 2008.

Schedule B

No Schedule B appointments were approved for February 2008.

Schedule C

The following Schedule C appointments were approved during February 2008.

Section 213.3303 Executive Office of the President

Office of National Drug Control Policy

QQGS80005 Confidential Assistant to the Director. Effective February 27, 2008.

QQGS80007 Confidential Assistant to the Deputy Chief of Staff. Effective February 28, 2008.

Office of Management and Budget

BOGS70018 Legislative Analyst to the Associate Director for Legislative Affairs. Effective February 13, 2008.

BOGS80006 Press Secretary to the Associate Director for Communications. Effective February 29, 2008.

Section 213.3304 Department of State

DSGS60980 Staff Assistant to the Under Secretary for Arms Control and Security Affairs. Effective February 05, 2008.

DSGS61225 Legislative Management Officer to the Assistant Secretary for Legislative and Intergovernmental Affairs. Effective February 05, 2008.

DSGS61269 Protocol Officer (Ceremonials) to the Chief of Protocol. Effective February 12, 2008.

DSGS61290 Deputy Assistant Secretary to the Assistant Secretary for Economic and Business Affairs. Effective February 12, 2008.

DSGS61291 Staff Assistant to the Chief Financial Officer. Effective February 12, 2008.

DSGS61060 Protocol Assistant to the Deputy Chief of Protocol. Effective February 26, 2008.

Section 213.3305 Department of the Treasury

DYGS00440 Public Affairs Specialist to the Assistant Secretary (Public Affairs) and Director of Policy Planning. Effective February 08, 2008.

DYGS00503 Senior Advisor to the Director of the Mint. Effective February 08, 2008.

DYGS00464 Special Assistant to the Assistant Secretary (Deputy Under Secretary) for Legislative Affairs. Effective February 29, 2008.

Section 213.3306 Department of Defense

DDGS17122 Public Affairs Specialist to the Office of Assistant Secretary of Defense (Public Affairs). Effective February 06, 2008.

DDGS17134 Special Assistant to the Assistant Secretary of Defense (Legislative Affairs). Effective February 13, 2008.

DDGS17131 Special Assistant to the Assistant Secretary of Defense (Special Operations/Low Intensity Conflict and Interdependent Capabilities). Effective February 26, 2008.

DDGS17126 Special Assistant to the Assistant Secretary of Defense (Legislative Affairs). Effective February 29, 2008.

Section 213.3307 Department of the Army

DWGS60087 Personal and Confidential Assistant to the Deputy Under Secretary of the Army. Effective February 19, 2008.

DWGS00091 Program Analyst (Business Transformation Initiatives) to the Special Assistant to the Secretary of Army for Business Transformation Initiatives. Effective February 26, 2008.

DWGS00093 Special Assistant to the Assistant Secretary of the Army (Installations and Environment). Effective February 26, 2008.

Section 213.3308 Department of the Navy

DNGS08060 Confidential Assistant to the Secretary of the Navy. Effective February 06, 2008.

Section 213.3309 Department of the Air Force

DFGS00010 Secretary to the Assistant Secretary (Financial Management and Comptroller). Effective February 26, 2008.

Section 213.3310 Department of Justice

DJGS00160 Confidential Assistant to the Assistant Attorney General (Legislative Affairs). Effective February 04, 2008.

DJGS00159 Senior Counsel to the Assistant Attorney General (Legal Policy). Effective February 26, 2008.

Section 213.3311 Department of Homeland Security

DMGS00746 Staff Assistant to the White House Liaison. Effective February 20, 2008.

DMGS00606 Component Liaison Officer to the Executive Director for Operations and Administration. Effective February 26, 2008.

DMGS00689 Advance Representative to the Director of Scheduling and Advance. Effective February 26, 2008.

DMGS00516 Confidential Assistant to the Executive Director for Operations and Administration. Effective February 29, 2008.

DMGS00745 Confidential Assistant to the Deputy Assistant Secretary to the Deputy Assistant Secretary for Public Affairs. Effective February 29, 2008.

Section 213.3312 Department of the Interior

DIGS01115 Associate Director—External and Intergovernmental Affairs to the Director, External and Intergovernmental Affairs. Effective February 21, 2008.

DIGS01114 Chief of Staff to the Assistant Secretary for Fish and Wildlife and Parks. Effective February 29, 2008.

Section 213.3313 Department of Agriculture

DAGS00931 Confidential Assistant to the Deputy Under Secretary, Research, Education and Economics. Effective February 08, 2008.

DAGS00932 Special Assistant to the Administrator, Rural Housing Service. Effective February 28, 2008.

DAGS00933 Confidential Assistant to the Chief of Staff. Effective February 29, 2008.

Section 213.3314 Department of Commerce

DCGS00541 Special Assistant to the Deputy Assistant Secretary for Domestic Operations. Effective February 04, 2008.

DCGS00290 Special Assistant to the Senior Advisor. Effective February 19, 2008.

DCGS00162 Senior Advisor to the Assistant Secretary for Market Access and Compliance. Effective February 29, 2008.

Section 213.3315 Department of Labor

DLGS00171 Special Assistant to the Director of Scheduling. Effective February 05, 2008.

DLGS60117 Special Assistant to the Wage and Hour Administrator. Effective February 05, 2008.

DLGS60198 Special Assistant to the Assistant Secretary for Administration and Management. Effective February 15, 2008.

DLGS60122 Senior Advisor to the Wage and Hour Administrator. Effective February 20, 2008.

DLGS60161 Attorney Advisor to the Solicitor of Labor. Effective February 20, 2008.

DLGS60138 Chief of Staff to the Assistant Secretary for Mine Safety and Health. Effective February 27, 2008.

DLGS60219 Staff Assistant to the Director, 21st Century Office and Deputy Assistant Secretary for Intergovernmental Affairs. Effective February 27, 2008.

DLGS60217 Senior Legislative Officer to the Assistant Secretary for Congressional and Intergovernmental Affairs. Effective February 29, 2008.

DLGS60272 Special Assistant to the Deputy Chief of Staff. Effective February 29, 2008.

Section 213.3316 Department of Health and Human Services

DHGS60065 Confidential Assistant to the Chief of Staff. Effective February 05, 2008.

DHGS60539 Special Assistant to the General Counsel. Effective February 13, 2008.

DHGS60066 Confidential Assistant to the Chief of Staff. Effective February 19, 2008.

Section 213.3317 Department of Education

DBGS00663 Special Assistant to the Deputy Assistant Secretary for Media Relations and Strategic Communications. Effective February 13, 2008.

DBGS00421 Confidential Assistant to the Special Assistant. Effective February 14, 2008.

DBGS00436 Special Assistant to the Deputy Assistant Secretary for Media Relations and Strategic Communications. Effective February 14, 2008.

DBGS00586 Special Assistant to the Deputy Assistant Secretary for Media Relations and Strategic Communications. Effective February 14, 2008.

DBGS00664 Chief of Staff to the Assistant Secretary for Vocational and Adult Education. Effective February 15, 2008.

DBGS00249 Special Assistant to the Assistant Secretary for Postsecondary Education. Effective February 19, 2008.

DBGS00614 Confidential Assistant to the Assistant Secretary, Office of Communications and Outreach. Effective February 20, 2008.

DBGS00368 Confidential Assistant to the Special Assistant. Effective February 22, 2008.

DBGS00184 Confidential Assistant to the Chief of Staff. Effective February 28, 2008.

DBGS00604 Deputy Director, Office of International Affairs to the Director, International Affairs Office. Effective February 28, 2008.

DBGS00662 Deputy Assistant Secretary to the Assistant Secretary, Office of Communications and Outreach. Effective February 28, 2008.

DBGS00222 Confidential Assistant to the Director, Scheduling and Advance Staff. Effective February 29, 2008.

Section 213.3325 United States Tax Court

JCGS60070 Trial Clerk to the Chief Judge. Effective February 11, 2008.

JCGS60055 Secretary (Confidential Assistant) to the Chief Judge. Effective February 29, 2008.

Section 213.3331 Department of Energy

DEGS00637 Assistant Press Secretary to the Director, Public Affairs. Effective February 01, 2008.

DEGS00638 Public Affairs Specialist to the Director of Congressional Intergovernmental and Public Affairs. Effective February 05, 2008.

DEGS00639 Case Analyst to the Director, Investment Security. Effective February 27, 2008.

DEGS00640 Trip Coordinator to the Director, Office of Scheduling and Advance. Effective February 28, 2008.

Section 213.3332 Small Business Administration

SBGS00649 Senior Advisor to the Associate Administrator for Capital Access. Effective February 05, 2008.

SBGS00652 Congressional Liaison to the Assistant Administrator for Congressional and Legislative Affairs. Effective February 05, 2008.

SBGS00190 Deputy Chief of Staff to the Chief of Staff. Effective February 12, 2008.

SBGS00650 Senior Advisor to the Deputy Administrator. Effective February 12, 2008.

SBGS00653 Deputy General Counsel to the General Counsel. Effective February 22, 2008.

Section 213.3360 Consumer Product Safety Commission

PSGS60064 Special Assistant (Legal) to a Commissioner. Effective February 15, 2008.

PSGS72150 Staff Assistant to a Commissioner. Effective February 15, 2008.

Section 213.3384 Department of Housing and Urban Development

DUGS60179 Advance Coordinator to the Director of Executive Scheduling. Effective February 07, 2008.

DUGS60249 Congressional Relations Assistant to the Assistant Secretary for Congressional and Intergovernmental Relations. Effective February 07, 2008.

DUGS60522 Deputy Assistant Secretary for Grant Programs to the Assistant Secretary for Community Planning and Development. Effective February 08, 2008.

Section 213.3393 Pension Benefit Guaranty Corporation

BGSL00096 Chief of Staff to the Interim Director. Effective February 05, 2008.

Section 213.3394 Department of Transportation

DTGS60258 Associate Director for Governmental Affairs to the Assistant Secretary for Governmental Affairs. Effective February 05, 2008.

DTGS60192 Special Assistant to the Assistant to the Secretary and Director of Public Affairs. Effective February 12, 2008.

DTGS60197 Confidential Assistant to the Chief of Staff. Effective February 12, 2008.

DTOT00240 Deputy Assistant Administrator for Communications to the Assistant Administrator for Communications. Effective February 13, 2008.

DTGS60129 Counselor to the General Counsel. Effective February 29, 2008.

Authority: 5 U.S.C. 3301 and 3302; E.O. 10577, 3 CFR 1954-1958 Comp., p. 218.

U.S. Office of Personnel Management.
Howard C. Weizmann,
Deputy Director.

[FR Doc. E8-7157 Filed 4-4-08; 8:45 am]

BILLING CODE 6325-39-P